DEPARTMENT OF LABOR

Employment and Training Administration

[TA-W-38,071]

Moltech Power Systems, Gainsville, FL; Notice of Revised Determination on Reconsideration

By letter of January 30, 2001, the company requested administrative reconsideration of the Department's denial of eligibility to apply for trade adjustment assistance applicable to workers and former workers of the subject firm.

The initial investigation resulted in a negative determination issued on December 11, 2000, and published in the Federal Register on January 11, 2001 (66 FR 2450). The investigation findings showed that sales or production did not decrease during the relevant time period.

New information provided by the company include actual sales, production and import data for fiscal year 2000 (ending September 2000). In the initial petition investigation, data provided by Moltech Power Systems were estimates for fiscal year 2000. The actual data show declines in sales and employment from FY 1999 to FY 2000. Company imports increased in the same time period, both absolutely and as a percentage of company sales.

Workers of the subject firm were covered under a previous certification, TA-W-34,695, which expired August 28, 2000.

Conclusion

After careful review of the additional facts obtained on reconsideration, I conclude that increased imports of articles like or directly competitive with rechargeable batteries contributed importantly to the declines in sales or production and to the total or partial separation of workers of Moltech Power Systems, Gainsville, Florida. In accordance with the provisions of the Act, I make the following certification:

All workers of Moltech Power Systems, Gainsville, Florida, who became totally or partially separated from employment on or after August 29, 2000, through two years from the date of this certification are eligible to apply for adjustment assistance under Section 223 of the Trade Act of 1974.

Signed in Washington, DC this 28th day of February, 2001.
Edward A. Tomchick,
Director, Division of Trade Adjustment Assistance.

[FR Doc. 01-6446 Filed 3-14-01; 8:45 am]

BILLING CODE 4510-30-M